DEPARTMENT OF EDUCATION

President's Commission on Excellence in Special Education

AGENCY: President's Commission on Excellence in Special Education, Department of Education.

ACTION: Notice of public meetings.

SUMMARY: This notice sets forth the schedule and proposed agenda of two forthcoming meetings of the President's Commission on Excellence in Special Education (Commission). This notice also describes the functions of the Commission. Notice of these meetings are required under Section 10(a)(2) of the Federal Advisory Committee Act and is intended to notify the public of their opportunity to attend.

DATES: May 30 and 31, 2002, June 12 and 13, 2002.

TIME: 9:00 a.m. to 5:00 p.m. each day.

ADDRESSES: The two Commission meetings will be held in Washington, DC. However, the specific locations for each meeting are not now determined. The Commission will make the specific location for each meeting available on its website as soon as meeting space is secured.

FOR FURTHER INFORMATION CONTACT: C. Todd Jones, Executive Director, or Troy R. Justesen, Deputy Executive Director, at (202) 208-1312. The fax number is (202) 208-1593 and e-mail address is troy.justesen@ed.gov or via the Commission's web site at: http://www.ed.gov/inits/commissionsboards/whspecialeducation/sitemap.html

SUPPLEMENTARY INFORMATION: The Commission is established under Executive Order 13227 dated October 2, 2001. The Commission's function is to collect information and study issues related to Federal, State, and local special education programs with the goal of recommending policies for improving the educational performance of students with disabilities. In furtherance of its duties, the Commission shall invite experts and members of the public to provide information and guidance. The Commission shall prepare and submit a report to the President outlining its findings and recommendations.

Individuals who will need accommodations for a disability in order to attend the meeting (e.g., interpreting services, assistive listening devices, materials in alternative format) should notify Troy R. Justesen, at (202) 219-0704, as soon as possible. Sign language interpreter services will be provided at all meetings. The meeting site will be accessible to individuals with mobility impairments, including those who use wheelchairs.

Unlike all other Commission meetings and hearings, these meetings will not provide a public comment period.

Records are kept of all Commission proceedings, and are available for public inspection at President's Commission on Excellence in Special Education, 80 F Street, NW, Suite 408, Washington, DC 20208 from the hours of 9 a.m. to 5 p.m. (EST). This notice will not meet the 15-day FACA requirement for announcing meetings in the Federal Register; however, a previous notice was printed indicating the date of the upcoming meeting. The notice gives the public more information about the agenda and actual location of the meeting that was not available at the first printing.

Electronic Access to This Document

You may view this document as well as all other Department of Education documents published in the Federal Register, in text or Adobe Portable Document Format (PDF) on the Internet at the following site: www.ed.gov.legislation/FedRegister

To use PDF you must have Adobe Acrobat Reader which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Robert H. Pasternack,
Assistant Secretary for Special Education and Rehabilitative Services.

[FR Doc. 02-11814 Filed 5-10-02; 8:45 am]

BILLING CODE 4000-01-M